DEPARTMENT OF HEALTH AND HUMAN SERVICES

Centers for Medicare & Medicaid Services

[Document Identifier: CMS-10284 and CMS-2567]

Agency Information Collection Activities: Proposed Collection; Comment Request

AGENCY: Centers for Medicare & Medicaid Services, Department of Health and Human Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Children's Health Insurance Program Reauthorization Act (CHIPRA) of 2009, State Option Pre-print to Include Pregnant Women in Title XXI; Use: Section 111 of CHIPRA adds a new section 2112 to the Social Security Act which gives States the option of providing necessary prenatal, delivery and postpartum care to low-income uninsured pregnant women through an amendment to its State Child Health Plan (CHIP plan). The purpose of this draft State plan amendment template is to provide States with the format needed to enable a State to amend their CHIP plan to reflect the coverage of pregnant women. Form Number: CMS-10284 (OMB#: 0938-NEW); Frequency: Reporting—One-time and Occasionally; Affected Public: State, Local or Tribal Government; Number of Respondents: 40; Total Annual Responses: 40; Total Annual Hours: 3,200. (For policy questions regarding this collection contact Meredith Robertson at 410-786-6543. For all other issues call 410-786-1326.)

2. Type of Information Collection Request: Reinstatement without change of a previously approved collection; Title of Information Collection: Statement of Deficiencies and Plan of Correction; Use: The information from the CMS-2567 is used by the States and CMS regional offices to document and certify compliance. Form Number: CMS-2567 (OMB#: 0938-0391); Frequency: Reporting—Annually; Affected Public: State, Local or Tribal Government, Federal Government, Business or other for-profits and Not-for-profit Institutions; Number of Respondents: 60,000; Total Annual Responses: 60,000; Total Annual Hours: 120,000. (For policy questions regarding this collection contact Joanne Perry at 410-786-3336. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 30, 2009:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number (CMS-10283), Room C4-26-05, 7500 Security Boulevard, Baltimore, Maryland 21244-1850.

Dated: April 23, 2009.
Michelle Shortt,
Director, Regulations Development Group, Office of Strategic Operations and Regulatory Affairs.

[FR Doc. E9-9959 Filed 4-30-09; 8:45 am]

BILLING CODE 4120-01-P